DEPARTMENT OF TRANSPORTATION

Federal Aviation Administration

14 CFR Part 71

[Docket No. FAA-2003-15079; Airspace Docket No. 03-ACE-47]

Modification of Class E Airspace; Sac City, IA

AGENCY: Federal Aviation Administration (FAA), DOT.

ACTION: Direct final rule; request for comments; correction.

SUMMARY: This action corrects a direct final rule; request for comments that was published in the Federal Register on Friday, May 23, 2003, (68 FR 28127) [FR Doc. 03-13039]. It corrects an error in the dimension and legal description of the Sac City, IA Class E airspace area.

DATES: This direct final rule is effective on 0901 UTC, September 4, 2003.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register Document 03-13039, published on Friday, May 23, 2003, (68 FR 28127) modified Class E airspace and Sac City, IA. The modification was to correct discrepancies in the Sac City Municipal Airport, IA airport reference point and the location of the Sac City nondirectional radio beacon, both used in the legal description of the Sac City, IA Class E airspace area. These corrections were to bring the airspace area into compliance with FAA Order 7400.2E, Procedures for handling Airspace Matters. The information published, however, did not correct a previous error in the volume of Class E airspace necessary at Sac City, IA and did not bring the airspace area into compliance with the order. This action rectifies the oversight and does bring the Sac City, IA Class E airspace into compliance with FAA Order 7400.2E.

Accordingly, pursuant to the authority delegated to me, the Sac City, IA Class E airspace, as published in the Federal Register on Friday, May 23, 2003, (68 FR 28127), [FR Doc. 03-13039] is corrected as follows:

§ 71.1 [Corrected]

On page 28127, Column 1, sixth paragraph, sixth and ninth lines after heading “ACE IA E5 Sac City, IA,” change “6-mile radius” to read “6.4-mile radius.”

Issued in Kansas City, MO, on July 1, 2003.
Herman J. Lyons, Jr.,
Manager, Air Traffic Division, Central Region.

[FR Doc. 03-17760 Filed 7-14-03; 8:45 am]

BILLING CODE 4910-13-M